DEPARTMENT OF STATE

[Public Notice 6999]

Advisory Committee on Historical Diplomatic Documentation Notice of Meeting

SUMMARY: The Advisory Committee on Historical Diplomatic Documentation will meet on June 7 and June 8, 2010 at the Department of State, 2201 “C” Street NW., Washington, DC.

Prior notification and a valid government-issued photo ID (such as driver's license, passport, U.S. government or military ID) are required for entrance into the building. Members of the public planning to attend must notify Margaret Morrissey, Office of the Historian (202-663-3529) no later than June 3, 2010, to provide date of birth, valid government-issued photo identification number and type (such as driver's license number/state, passport number/country, or US government ID number/agency or military ID number/branch), and relevant telephone numbers. If you cannot provide one of the specified forms of ID, please consult with Margaret Morrissey for acceptable alternative forms of picture identification. In addition, any requests for reasonable accommodation should be made no later than June 1, 2010. Requests for reasonable accommodation received after that time will be considered, but might be impossible to fulfill.

The Committee will meet in open session from 1:30 p.m. through 2:30 p.m. on Monday, June 7, 2010, in the Department of State, 2201 “C” Street NW., Washington, DC, in Conference Room 1205, to discuss declassification and transfer of Department of State records to the National Archives and Records Administration and the status of the Foreign Relations series. The remainder of the Committee's sessions from 2:45 p.m. until 5 p.m. on Monday, June 7, 2010 and 9 a.m. until 12 p.m. on Tuesday, June 8, 2010, will be closed in accordance with Section 10(d) of the Federal Advisory Committee Act (Pub. L. 92-463). The agenda calls for discussions of agency declassification decisions concerning the Foreign Relations series and other declassification issues. These are matters properly classified and not subject to public disclosure under 5 U.S.C. 552b(c)(1) and the public interest requires that such activities be withheld from disclosure. Questions concerning the meeting should be directed to Ambassador Edward Brynn, Executive Secretary, Advisory Committee on Historical Diplomatic Documentation, Department of State, Office of the Historian, Washington, DC 20520, telephone (202) 663-1123, (e-mail history@state.gov).

Dated: April 29, 2010.
Ambassador Edward Brynn,
Executive Secretary, Advisory Committee on Historical Diplomatic Documentation, Department of State.

[FR Doc. 2010-11328 Filed 5-11-10; 8:45 am]

BILLING CODE 4710-11-P